NATIONAL FOUNDATION ON THE ARTS AND THE HUMANITIES

National Endowment for the Arts

National Council on the Arts 196th Meeting

AGENCY: National Endowment for the Arts, National Foundation on the Arts and the Humanities.

ACTION: Notice of meeting.

SUMMARY: Pursuant to section 10(a)(2) of the Federal Advisory Committee Act, as amended, notice is hereby given that a meeting of the National Council on the Arts will be held. Open to the public on a space available basis.

DATES: See the SUPPLEMENTARY INFORMATION section for meeting time and date. The meeting is Eastern time and the ending time is approximate.

ADDRESSES: Russell Senate Building, Room #SR-485, 2 Constitution Avenue NE, Washington DC, 20002.

FOR FURTHER INFORMATION CONTACT: Victoria Hutter, Office of Public Affairs, National Endowment for the Arts, Washington, DC 20506, at 202/682-5570.

SUPPLEMENTARY INFORMATION: If, in the course of the open session discussion, it becomes necessary for the Council to discuss non-public commercial or financial information of intrinsic value, the Council will go into closed session pursuant to subsection (c)(4) of the Government in the Sunshine Act, 5 U.S.C. 552b, and in accordance with the July 5, 2016 determination of the Chairman. Additionally, discussion concerning purely personal information about individuals, such as personal biographical and salary data or medical information, may be conducted by the Council in closed session in accordance with subsection (c)(6) of 5 U.S.C. 552b.

Any interested persons may attend, as observers, to Council discussions and reviews that are open to the public. If you need special accommodations due to a disability, please contact Beth Bienvenu, Office of Accessibility, National Endowment for the Arts, Constitution Center, 400 7th St. SW, Washington, DC 20506, 202/682-5733, Voice/T.T.Y. 202/682-5496, at least seven (7) days prior to the meeting.

The upcoming meeting is:

National Council on the Arts 196th Meeting

This meeting will be open.

Date and time: March 28, 2019; 10:00 a.m. to 12:00 p.m.

From 10:00 a.m. to 10:30 a.m.—Opening remarks and voting on recommendations for grant funding and rejection, followed by updates from the Acting Chairman. There also will be the following presentations (times are approximate): From 10:30 a.m. to 11:00 a.m.—Presentation on Importance of the NEA (Mary Anne Carter, Acting Chairman); from 11:00 a.m. to 11:30 a.m.—Remarks from Members of Congress; and from 11:30 a.m. to 12:00 p.m.—Preview of June 2019 NCA Meeting in Detroit, Michigan (W. Omari Rush, Chair, Michigan Council for Arts and Cultural Affairs; and Alison Watson, Director, Michigan Council for Arts and Cultural Affairs.)

Dated: March 5, 2019.
Sherry P. Hale,
Staff Assistant, National Endowment for the Arts.

[FR Doc. 2019-04228 Filed 3-7-19; 8:45 am]

BILLING CODE 7537-01-P